DEPARTMENT OF TRANSPORTATION

Federal Aviation Administration

14 CFR Part 39

[Docket No. FAA-2025-1116; Project Identifier MCAI-2024-00708-R; Amendment 39-23071; AD 2025-13-05]

RIN 2120-AA64

Airworthiness Directives; Airbus Helicopters

AGENCY: Federal Aviation Administration (FAA), DOT.

ACTION: Final rule; request for comments.

SUMMARY: The FAA is adopting a new airworthiness directive (AD) for all Airbus Helicopters Model H160-B helicopters. This AD was prompted by occurrences of premature in-service degradation of the main rotor swashplate assembly (swashplate) bearing. This AD requires repetitively inspecting the swashplate bearing for the presence of grease, and depending on the inspection results, performing corrective actions. This AD requires performing certain operational checks, downloading and analyzing certain data, and, depending on the results of the operational checks, further corrective actions. This AD also requires repetitively performing one flight under specific conditions. Additionally, this AD requires inspecting grease on the swashplate bearing and, depending on the inspection results, applying a certain grease or replacing the grease. This AD allows installing certain part-numbered swashplate bearings provided certain requirements are met. The FAA is issuing this AD to address the unsafe condition on these products.

DATES: This AD is effective July 17, 2025.

The Director of the Federal Register approved the incorporation by reference of certain publications listed in this AD as of July 17, 2025.

The FAA must receive comments on this AD by August 18, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1116; or in person at Docket Operations between 9 a.m. and 5 p.m., Monday through Friday, except Federal holidays. The AD docket contains this final rule, the mandatory continuing airworthiness information (MCAI), any comments received, and other information. The street address for Docket Operations is listed above.

Material Incorporated by Reference:

• For European Union Aviation Safety Agency (EASA) material identified in this AD, contact EASA, Konrad-Adenauer-Ufer 3, 50668 Cologne, Germany; phone +49 221 8999 000; email: ADs@easa.europa.eu; website: easa.europa.eu. You may find the EASA material on the EASA website at ad.easa.europa.eu. It is also available at regulations.gov under Docket No. FAA-2025-1116.

• You may view this material at the FAA, Office of the Regional Counsel, Southwest Region, 10101 Hillwood Parkway, Room 6N-321, Fort Worth, TX 76177. For information on the availability of this material at the FAA, call (817) 222-5110.

FOR FURTHER INFORMATION CONTACT: Aryanna Sanchez, Aviation Safety Engineer, FAA, 1600 Stewart Avenue, Suite 410, Westbury, NY 11590; phone: (817) 222-4058; email: aryanna.t.sanchez@faa.gov.

SUPPLEMENTARY INFORMATION:

Comments Invited

The FAA invites you to send any written data, views, or arguments about this final rule. Send your comments to an address listed under the ADDRESSES section. Include “Docket No. FAA-2025-1116; Project Identifier MCAI-2024-00708-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Aryanna Sanchez, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2024-0229, dated December 2, 2024 (EASA AD 2024-0229) (also referred to as the MCAI) to correct an unsafe condition on Airbus Helicopters Model H160-B helicopters. The MCAI states multiple occurrences were reported of premature in-service degradation of the swashplate bearing, which could have been due to the use of the wrong grease or a mixture of incompatible greases. The MCAI also states the health usage monitoring system (HUMS) has been effective to detect early degradation of the swashplate bearings; however, data shows that additional inspections and repetitive flights are needed to ensure HUMS data is analyzed on a regular basis to detect the degradation.

The FAA is issuing this AD to prevent premature swashplate bearing degradation. The unsafe condition, if not addressed, could result in failure of the swashplate bearing and consequent reduced control of the helicopter.

You may examine the MCAI in the AD docket at regulations.gov under Docket No. FAA-2025-1116.

Material Incorporated by Reference Under 1 CFR Part 51

The FAA reviewed EASA AD 2024-0229, which specifies procedures for:

• repetitively inspecting the swashplate assembly and surrounding areas for the presence of black grease, and if abnormal grease is detected, performing corrective actions. Corrective actions include performing a functional test of the swashplate bearing and, depending on the results, replacing the main rotor mast assembly or repeating the functional tests.

• performing a check of the HUMS flight report and a check of the condition of the HUMS vibration overlimit monitoring operation, including downloading and analyzing the HUMS data of the swashplate bearing. If a discrepancy is detected, the MCAI specifies to contact AH [Airbus Helicopters] for corrective actions.

• repetitively performing one flight under specific conditions to verify the status of the HUMS vibration overlimit monitoring.

• identifying the type of grease that was applied during the last swashplate bearing lubrication and if incorrect grease was applied or if the grease is unknown, replacing it.

EASA AD 2024-0229 allows an affected swashplate bearing to be installed on a helicopter provided the swashplate bearing is new and has not previously been installed on a helicopter.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this AD after determining that the unsafe condition described previously is likely to exist or develop on other products of the same type design.

AD Requirements

This AD requires accomplishing the actions specified in EASA AD 2024-0229, described previously, as incorporated by reference, except for any differences identified as exceptions in the regulatory text of this AD. See “Differences Between this AD and the MCAI” for a discussion of the general differences included in this AD. The owner/operator (pilot) holding at least a private pilot certificate may perform the initial check of the HUMS flight report or repetitively perform one flight to verify the status of the HUMS vibration overlimit monitoring and must enter compliance with the applicable paragraph(s) of the AD into the helicopter maintenance records in accordance with 14 CFR 43.9(a) and 91.417(a)(2)(v). The pilot may perform these actions because they only involve visually checking the HUMS flight report or performing a flight. These actions could be performed equally well by a pilot or a mechanic. This is an exception to the FAA's standard maintenance regulations.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2024-0229 is incorporated by reference in this AD. This AD requires compliance with EASA AD 2024-0229 in its entirety through that incorporation, except for any differences identified as exceptions in the regulatory text of this AD. Using common terms that are the same as the heading of a particular section in EASA AD 2024-0229 does not mean that operators need comply only with that section. For example, where the AD requirement refers to “all required actions and compliance times,” compliance with this AD requirement is not limited to the section titled “Required Action(s) and Compliance Time(s)” in EASA AD 2024-0229. Material required by EASA AD 2024-0229 for compliance will be available at regulations.gov under Docket No. FAA-2025-1116 after this AD is published.

Differences Between This AD and the MCAI

Where the MCAI does not specify who is authorized to download and analyze the HUMS vibration overlimit checks, this AD requires those actions to be accomplished by persons authorized under 14 CFR 43.3.

Where the MCAI requires accomplishing corrective actions in accordance with the instructions of the service material, and within the compliance times specified in the service material referenced in the MCAI, this AD requires accomplishing the instructions or corrective actions in accordance with a method approved by the FAA, EASA; or Airbus Helicopters' EASA Design Organization Approval (DOA).

Where material referenced in the MCAI does not specify who may perform a functional test or who may perform the dedicated maintenance instructions for any other exceedance, this AD does not allow those procedures to be performed by a pilot (owner/operator) and requires those procedures to be accomplished by persons authorized under 14 CFR 43.3.

Where the material referenced in the MCAI allows “operations and maintenance” to analyze a flight report, perform a check of the HUMS vibration overlimit monitoring operation, download and transfer HUMS data to Airbus Helicopters, and perform one flight to verify the status of the HUMS vibration overlimit monitoring, this AD only allows a pilot to perform the initial check of the HUMS flight report for the presence of a reported event and to repetitively perform one flight to verify the status of the HUMS vibration overlimit monitoring.

Interim Action

The FAA considers that this AD is an interim action. If final action is later identified, the FAA might consider further rulemaking.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because several occurrences have already been reported of in-service degradation on these swashplate bearings, which are critical to the control of the helicopter. Additionally, the cause of the unsafe condition is still being investigated and the reporting requirements may be crucial to understanding the root cause. In light of this, the initial action required by this AD must be accomplished before further flight or within 15 hours time-in-service for some helicopters, which is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects nine helicopters of U.S. registry. Labor costs are estimated at $85 per hour. Based on these numbers, the FAA estimates the following costs to comply with this AD.

Visually inspecting for the presence of black grease will take 0.5 work-hours for an estimated cost of $43 per helicopter and $387 for the U.S. fleet.

Accomplishing a check of the HUMS vibration overlimit monitoring will take 0.25 work-hours for an estimated cost of $21 per helicopter and $189 for the U.S. fleet.

Downloading and sending the HUMS data to Airbus Helicopters for analysis, which is considered a reporting requirement in this AD, will take 1 work-hour for an estimated cost of $85 per helicopter and $765 for the U.S. fleet.

Verifying helicopter records to determine which grease was applied will take 0.25 work-hours for an estimated cost of $21 per helicopter and $189 for the U.S. fleet.

If required, removing and replacing grease will take 5 work-hours for an estimated cost of $425 per helicopter.

If required, accomplishing a functional test will take 1 work-hour for an estimated cost of $85 per helicopter.

If required, replacing an affected main rotor mast will take 114 work-hours and parts will cost up to $316,023 for an estimated cost of $325,713 per helicopter.

The FAA has no way of determining the number of work-hours it will take to accomplish the corrective actions if HUMS support is needed.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-13-05 Airbus Helicopters: Amendment 39-23071; Docket No. FAA-2025-1116; Project Identifier MCAI-2024-00708-R.

(a) Effective Date

This airworthiness directive (AD) is effective July 17, 2025.

(b) Affected ADs

None.

(c) Applicability

This AD applies to Airbus Helicopters Model H160-B helicopters, certificated in any category.

(d) Subject

Joint Aircraft System Component (JASC) Code: 6230, Main rotor mast/swashplate.

(e) Unsafe Condition

This AD was prompted by reports of premature degradation of the main rotor swashplate assembly (swashplate) bearing. The FAA is issuing this AD to prevent premature swashplate bearing degradation. The unsafe condition, if not addressed, could result in failure of the swashplate bearing and consequent reduced control of the helicopter.

(f) Compliance

Comply with this AD within the compliance times specified, unless already done.

(g) Requirements

Except as specified in paragraph (h) of this AD: Comply with all required actions and compliance times specified in, and in accordance with, European Union Aviation Safety Agency AD 2024-0229, dated December 2, 2024 (EASA AD 2024-0229).

(h) Exceptions to EASA AD 2024-0229

(1) Where EASA AD 2024-0229 requires compliance in terms of flight hours, this AD requires using hours time-in-service (TIS).

(2) Where EASA AD 2024-0229 refers to its effective date or where EASA AD 2024-0229 refers to December 25, 2023 [the effective date of EASA AD 2023-0222-E], this AD requires using the effective date of this AD.

(3) Where paragraph (1) of EASA AD 2024-0229 specifies “Within 15 flight hours (FH) or before the next cleaning of the swashplate bearing, whichever occurs first after December 25, 2023 [the effective date of EASA AD 2023-0222-E], and, thereafter, before any cleaning of the swashplate bearings or at intervals not exceeding 15 flight hours [FH], whichever occurs first”, this AD requires replacing that text with “Within 15 hours TIS or at the next 50 hour Swashplate Bearing—Functional Test or 300 hour Swashplate Bearing—Lubrication, whichever occurs first after July 17, 2025, the effective date of FAA AD 2025-13-05, and thereafter at intervals not to exceed 15 hours TIS”.

(4) Where the material referenced in paragraph (3) of EASA AD 2024-0229 specifies a check of the Health Usage Monitoring System (HUMS) flight report for reporting of MR SWASHPLATE: EXCEEDANCE in accordance with paragraph 4.3 of the accomplishment procedure of the ASB [Alert Service Bulletin], for this AD, the owner/operator (pilot) holding at least a private pilot certificate may perform only the initial check of the HUMS flight report for the presence of a reported event and must enter compliance into the helicopter maintenance records in accordance with 14 CFR 43.9(a) and 91.417(a)(2)(v). The record must be maintained as required by 14 CFR 91.417, 121.380, or 135.439.

Note 1 to paragraph (h)(4): The initial check of the HUMS flight report is part of the normal flight report procedures, and the flowcharts are not required to perform the initial check.

(5) Where paragraph (4) of EASA AD 2024-0229 specifies a check of the HUMS vibration overlimit monitoring for reporting of MR SWASHPLATE: UNDEFINED or MR SWASHPLATE: EXCEEDANCE in accordance with the instructions of paragraph 4.4 of the accomplishment procedure of the ASB, this AD requires those actions be accomplished by persons authorized under 14 CFR 43.3 and may not be performed by the owner/operator (pilot) holding at least a private pilot certificate.

(6) Where paragraph (6) of EASA AD 2024-0229 specifies “perform one flight to verify the status of the HUMS vibration overlimit monitoring in accordance with the instructions of paragraph 4.6 of the accomplishment procedure of the ASB”, this AD requires replacing that text with “perform one flight to verify the status of the HUMS vibration overlimit monitoring. The owner/operator (pilot) may perform this flight and verification and must enter compliance with this paragraph into the helicopter maintenance records in accordance with 14 CFR 43.9(a) and 91.417(a)(2)(v). The record must be maintained as required by 14 CFR 91.417, 121.380, or 135.439”.

(7) Where paragraph (7) of EASA AD 2024-0229 specifies “Where the ASB provides instruction to contact AH [Airbus Helicopters] HUMS support, this AD requires to contact AH for applicable instructions and to accomplish those instructions accordingly”, this AD requires replacing that text with “Accomplish the instructions or corrective actions in accordance with a method approved by the Manager, International Validation Branch, FAA; or EASA; or Airbus Helicopters' EASA Design Organization Approval (DOA). If approved by the DOA, the approval must include the DOA-authorized signature”.

(8) Where paragraph (8) of EASA AD 2024-0229 specifies “check”, this AD requires replacing that text with “test”.

(9) Where paragraph (8) of EASA AD 2024-0229 refers to any discrepancy, for the purposes of this AD, a discrepancy (pertaining to any functional test [check]) is identified as any abnormal relief or hard point (ratcheting or blocking) felt during rotation at a low constant speed, or any axial play on the installed rotating swashplate. An abnormal relief occurs when the passage of the balls on a spalling of the race can be felt by vibrations in the hands and arms during the rotation. A hard point occurs when there is a ratcheting or blocking of the ball bearing and is felt by a sensation of braking or stopping exerting an additional force during the rotation. Axial play is detected by manually shaking the equipped rotating swashplate vertically from top to bottom (up and down).

Note 2 to paragraph (h)(9): Additional information to identify discrepancies is included in the video specified in Work Card Swashplate Bearing—Functional test 62-32-3001, 340, dated November 4, 2022.

(10) Where paragraph (8) of EASA AD 2024-0229 specifies “replace the main rotor mast assembly in accordance with the instructions of the ASB”, this AD requires replacing that text with “remove the main rotor mast assembly from service in accordance with the instructions of the ASB and replace it with an airworthy main rotor mast assembly”.

(11) Instead of complying with paragraph (10) of EASA AD 2024-0229, for this AD, as of the effective date of this AD, do not lubricate the swashplate bearing with unknown grease or any grease other than Nyco Grease GN10.

(12) Where paragraph (11) of EASA AD 2024-0229 specifies “Before next swashplate bearings lubrication or within 15 FH whichever occurs first after 25 December 2023 [the effective date of EASA AD 2023-0222-E],”, this AD requires replacing that text with “Within 15 hours TIS or at the next 300 hour Swashplate Bearing—Lubrication, whichever occurs first, after the effective date of AD 2025-13-05”.

(13) Where paragraph (12) of EASA AD 2024-0229 specifies “it is determined that the grease used during the last swashplate bearings lubrication is not listed in CM115 type 1, or it is unknown”, this AD requires replacing that text with “unknown grease or any grease other than Nyco Grease GN10 was used”.

(14) Where paragraph (14) of EASA AD 2024-0229 specifies “Inspection, corrective actions, and greasing accomplished on a helicopter before the effective date of this AD in accordance with the instructions of ASB H160-B 62-32-0001 Issue 001 are acceptable for compliance with the requirements of paragraphs (1) to (5), and (7) to (12) of this AD, as applicable, for that helicopter”, this AD requires replacing that text with “Initial inspection, corrective actions, and greasing accomplished on a helicopter before the effective date of AD 2025-13-05 in accordance with the instructions of ASB H160-B 62-32-0001 Issue 001, dated December 19, 2023, are acceptable for compliance with the requirements of paragraphs (1) through (5), and (7) through (12) of EASA AD 2024-0229, as applicable, for that helicopter”.

(15) This AD does not adopt the Remarks section of EASA AD 2024-0229.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD and email to: AMOC@faa.gov.

(2) Before using any approved AMOC, notify your appropriate principal inspector, or lacking a principal inspector, the manager of the local Flight Standards District Office/certificate holding district office.

(j) Additional Information

(1) For more information about this AD, contact Aryanna Sanchez, Aviation Safety Engineer, FAA, 1600 Stewart Avenue, Suite 410, Westbury, NY 11590; phone: (817) 222-4058; email: aryanna.t.sanchez@faa.gov.

(2) Airbus Helicopters material identified in this AD that is not incorporated by reference is available at Airbus Helicopters, 2701 North Forum Drive, Grand Prairie, TX 75052; phone: (972) 641-0000 or (800) 232-0323; fax: (972) 641-3775; or at airbus.com/en/products-services/helicopters/hcare-services/airbusworld.

(k) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0229, dated December 2, 2024.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on June 27, 2025.
Steven W. Thompson,
Acting Deputy Director, Compliance & Airworthiness Division, Aircraft Certification Service.

[FR Doc. 2025-12377 Filed 6-30-25; 4:15 pm]

BILLING CODE 4910-13-P